DEPARTMENT OF ENERGY

[Docket No. EA-290]

Application To Export Electric Energy; Ontario Power Generation, Inc.

AGENCY: Office of Fossil Energy, DOE.

ACTION: Notice of application.

SUMMARY: Ontario Power Generation, Inc. (OPG) has applied for authority to transmit electric energy from the United States to Canada pursuant to section 202(e) of the Federal Power Act.

DATES: Comments, protests or requests to intervene must be submitted on or before May 10, 2004.

ADDRESSES: Comments, protests or requests to intervene should be addressed as follows: Office of Coal & Power Import/Export (FE-27), Office of Fossil Energy, U.S. Department of Energy, 1000 Independence Avenue, SW, Washington, DC 20585-0350 (FAX 202-287-5736).

FOR FURTHER INFORMATION CONTACT: Steven Mintz (Program Office) 202-586-9506 or Michael Skinker (Program Attorney) 202-586-2793.

SUPPLEMENTARY INFORMATION: Exports of electricity from the United States to a foreign country are regulated and require authorization under section 202(e) of the Federal Power Act (FPA) (16 U.S.C. 824a(e)).

On March 15, 2004, the Office of Fossil Energy (FE) of the Department of Energy (DOE) received an application from OPG to transmit electric energy from the United States to Canada. OPG is a Canadian corporation having its principal place of business at Toronto, Ontario, Canada. OPG operates a number of power generation facilities in Ontario, some of which are owned by OPG and some by various subsidiary corporations. OPG does not own or control any transmission or distribution assets, nor does it have any franchised service area in the United States or Canada. OPG's generation assets previously were owned by Ontario Hydro, the former government-owned utility providing generation, transmission and certain distribution services in Ontario.

OPG proposes to arrange for the delivery of electric energy to Canada over the existing international transmission facilities owned by Basin Electric Power Cooperative, Boise Cascade, Bonneville Power Administration, Citizen Utilities, Eastern Maine Electric Cooperative, International Transmission Company, Joint Owners of the Highgate Project, Long Sault, Inc., Maine Electric Power Company, Maine Public Service Company, Minnesota Power Inc., Minnkota Power Cooperative, New York Power Authority, Niagara Mohawk Power Corporation, Northern States Power, Northern States/Ecel, Vermont Electric Cooperative Inc., and Vermont Electric Transmission Company. The construction, operation, maintenance, and connection of each of the international transmission facilities to be utilized by OPG, as more fully described in the application, has previously been authorized by a Presidential permit issued pursuant to Executive Order 10485, as amended.

OPG has requested expedited processing of its application so that it may export power to Canada on the earliest possible date.

Procedural Matters: Any person desiring to become a party to this proceeding or to be heard by filing comments or protests to this application should file a petition to intervene, comment or protest at the address provided above in accordance with § 385.211 or § 385.214 of the FERC's Rules of Practice and Procedures (18 CFR 385.211, 385.214). Fifteen copies of each petition and protest should be filed with DOE on or before the date listed above.

Comments on the OPG application to export electric energy to Canada should be clearly marked with Docket EA-290. Additional copies are to be filed directly with Andrew Barrett, Vice President, Regulatory Affairs, Ontario Power Generation Inc., 700 University Avenue, Toronto, Ontario M5G 1X6 Canada and Jerry Pfeiffer, Energy Industries Advisor, Victor A. Contract, Skadden, Arps, Slate, Meagher & Flom LLP, 1440 New York Avenue, NW., Washington, DC 20005-2111.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the Fossil Energy Home Page at http://www.fe.de.gov. Upon reaching the Fossil Energy Home page, select “Electricity Regulation,” and then “Pending Procedures” from the options menus.

Issued in Washington, DC, on April 20, 2004.
Anthony J. Como,
Deputy Director, Electric Power Regulation, Office of Coal & Power Import/Export, Office of Coal & Power Systems, Office of Fossil Energy.

[FR Doc. 04-9245 Filed 4-22-04; 8:45 am]

BILLING CODE 6450-01-P